DEPARTMENT OF HOMELAND SECURITY

Federal Emergency Management Agency

[Docket ID FEMA-2017-0002; Internal Agency Docket No. FEMA-B-1757]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 26, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1757, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Dated: November 2, 2017.
Roy E. Wright,
Deputy Associate Administrator for Insurance and Mitigation, Department of Homeland Security, Federal Emergency Management Agency.

Community | Community map repository address
Las Animas County, Colorado and Incorporated Areas
Project: 13-08-0163S Preliminary Date: February 17, 2017
City of Trinidad | City Government Office, 135 North Animas Street, Trinidad, CO 81082.
Town of Aguilar | Las Animas County Land Use Office, 200 East 1st Street, Room 102, Trinidad, CO 81082.
Town of Starkville | Town Hall, 8531 Pinon Street, Starkville, CO 81082.
Unincorporated Areas of Las Animas County | Las Animas County Land Use Office, 200 East 1st Street, Room 102, Trinidad, CO 81082.
Dixie County, Florida and Incorporated Areas
Project: 12-04-7915S Preliminary Date: November 30, 2016
Town of Cross City | Town Hall, 99 Northeast 210th Avenue, Cross City, FL 32628.
Town of Horseshoe Beach | Town Hall, 18 5th Avenue East, Horseshoe Beach, FL 32648.
Unincorporated Areas of Dixie County | Dixie County Building and Zoning Department, 387 Southeast 22nd Avenue, Cross City, FL 32628.
Levy County, Florida and Incorporated Areas
Project: 12-04-7915S Preliminary Date: August 12, 2016
City of Cedar Key | City Hall, 490 2nd Street, Cedar Key, FL 32625.
Town of Inglis | Town Hall, 135 Highway 40 West, Inglis, FL 34449.
Town of Yankeetown | Town Hall, 6241 Harmony Lane, Yankeetown, FL 34498.
Unincorporated Areas of Levy County | Levy County Development Department, 622 East Hathaway Avenue, Bronson, FL 32621.
Taylor County, Florida and Incorporated Areas
Project: 12-04-7915S Preliminary Date: December 23, 2016
City of Perry | City Hall, 224 South Jefferson Street, Perry, FL 32347.
Unincorporated Areas of Taylor County | Taylor County Courthouse Annex, 201 East Green Street, Perry, FL 32347.
Caldwell County, Texas and Incorporated Areas
Project: 16-06-1113S Preliminary Date: April 7, 2017
City of Luling | City Hall, 509 East Crockett Street, Luling, TX 78648.
City of Martindale | City Hall, 409 Main Street, Martindale, TX 78655.
City of San Marcos | City Hall, 630 East Hopkins Street, San Marcos, TX 78666.
Unincorporated Areas of Caldwell County | Caldwell County Courthouse, 110 South Main Street, Lockhart, TX 78644.
Gonzales County, Texas and Incorporated Areas
Project: 16-06-1113S Preliminary Date: April 7, 2017
City of Gonzales | City Hall, 820 St. Joseph Street, Gonzales, TX 78629.
Unincorporated Areas of Gonzales County | Gonzales County Courthouse, 414 St. Joseph Street, Suite 200, Gonzales, TX 78629.
Guadalupe County, Texas and Incorporated Areas
Project: 16-06-1113S Preliminary Date: April 7, 2017
City of Luling | City Hall, 509 East Crockett Street, Luling, TX 78648.
City of Staples | Civic Center, 9615 FM 621, Staples, TX 78670.
Unincorporated Areas of Guadalupe County | Guadalupe County Environmental Health Department, 2605 North Guadalupe Street, Seguin, TX 78155.
Hays County, Texas and Incorporated Areas
Project: 16-06-1113S Preliminary Date: April 7, 2017
City of Austin | Watershed Engineering Division, 505 Barton Springs Road, 12th Floor, Austin, TX 78704.
City of Buda | City Hall, 121 Main Street, Buda, TX 78610.
City of Dripping Springs | Public Works Department, 511 Mercer Street, Dripping Springs, TX 78620.
City of Hays | Hays City Hall, 520 Country Lane, Buda, TX 78610.
City of Kyle | Engineering Department, 100 West Center Street, Kyle, TX 78640.
City of Mountain City | City Hall, 101 Mountain City Drive, Mountain City, TX 78610.
City of San Marcos | City Hall, 630 East Hopkins Street, San Marcos, TX 78666.
City of Wimberley | Public Works Department, 221 Stillwater, Wimberley, TX 78676.
City of Woodcreek | City Hall, 41 Champions Circle, Woodcreek, TX 78676.
Unincorporated Areas of Hays County | Hays County Development Services Department, 2171 Yarrington Road, San Marcos, TX 78666.
Village of Bear Creek | Bear Creek Community Map Repository, 8600 North Madrone Trail, Austin, TX 78737.

[FR Doc. 2017-25618 Filed 11-27-17; 8:45 am]

BILLING CODE 9110-12-P